DEPARTMENT OF AGRICULTURE

National Institute of Food and Agriculture

Notice of Intent To Revise Currently Approved Information Collection

AGENCY: National Institute of Food and Agriculture, USDA.

ACTION: Notice and request for comments.

SUMMARY: In accordance with the Office of Management and Budget (OMB) Paperwork Reduction Act of 1995, this notice announces the National Institute of Food and Agriculture's (NIFA) intention to revise a currently approved information collection, 0524-0039 entitled, “NIFA Application Kit”. NIFA does not plan to make any language changes to this information collection.

DATES: Written comments on this notice must be received by August 6, 2018 to be assured of consideration. Comments received after that date will be considered to the extent practicable.

ADDRESSES: Written comments concerning this notice and requests for copies of the information collection may be submitted by any of the following methods: Email: rmartin@nifa.usda.gov; Fax: 202-720-0857; Mail: Office of Information Technology (OIT), NIFA, USDA, STOP 2216, 1400 Independence Avenue SW, Washington, DC 20250-2216.

FOR FURTHER INFORMATION CONTACT: Robert Martin; Email: rmartin@nifa.usda.gov.

SUPPLEMENTARY INFORMATION:

Title: NIFA Application Kit.

OMB Number: 0524-0039.

Expiration Date of Current Approval: October 31, 2018.

Type of Request: Intent to extend a currently approved information collection for three years.

Abstract: The National Institute of Food and Agriculture (NIFA) sponsors ongoing agricultural research, extension, and education programs under which competitive, formula, and special awards of a high-priority nature are made. Because competitive applications are submitted, many of which necessitate review by peer panelists, it is particularly important that applicants provide the information in a standardized fashion to ensure equitable treatment for all. Standardization is also important to applicants to other programs as it lends itself to a more efficient process and minimizes administrative burden. For this reason, NIFA uses standard forms in the SF-424 Research and Related (R&R) form family which includes agency-specific forms for the application process. NIFA issues Requests for Applications (RFA) that includes the instructions for the preparation and submission of applications. These instructions provide, where appropriate, the necessary format for information in order to expedite, to the extent possible, the application review process. NIFA requires submission of applications electronically through Grants.gov.

The forms and narrative information are mainly used for application evaluation and administration purposes. While some of the information is used to respond to inquiries from Congress and other government agencies, the forms are not designed to be statistical surveys.

Also included in this information collection is one form which only applies to recipients of a NIFA fellowship/scholarship. The form is only used to document pertinent demographic data on the fellows/scholars, documentation of the progress of the fellows/scholars under the program, and performance outcomes of the student beneficiaries.

Respondents: Universities, non-profit institutions, State, local, or Tribal government, and a limited number of for-profit institutions and individuals.

Estimated Number of Responses by Form:

Letter of Intent: 2.739.

Form NIFA-2008 Assurance Statement(s): 2,000.

Supplemental Information: 5,377.

Application Type: 2,200.

Proposal Type Form: 2,687.

NIFA-2010 Fellowships/Scholarships Entry/Exit: 150.

The individual form burden is as follows (calculated based on a survey of grant applicants conducted by NIFA):

Letter of Intent: 2 hours.

Form NIFA-2008 Assurance Statement(s): 30 minutes.

Supplemental Information: 2 hours.

Proposal Type Form: 15 minutes.

NIFA-2010 Fellowships/Scholarships Entry/Annual Update/Exit: 3 hours.

Estimated Total Annual Burden on Respondents: The annual total burden on the public for all forms is estimated to be 18,354 hours.

Frequency of Respondents: Annually.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Comments should be sent to the address stated in the preamble.

All responses to this notice will be summarized and included in the request for OMB approval. All comments also will become a matter of public record.

Done in Washington, DC, this 30th day of May 2018.
Thomas G. Shanower,
Acting Director, National Institute of Food and Agriculture.

[FR Doc. 2018-12151 Filed 6-5-18; 8:45 am]

BILLING CODE P